ENVIRONMENTAL PROTECTION AGENCY

40 CFR Part 52

[EPA-R03-OAR-2015-0112; FRL-9941-27-Region 3]

Approval and Promulgation of Air Quality Implementation Plans; Pennsylvania; Attainment Plan for the Lower Beaver Valley Nonattainment Area for the 2008 Lead National Ambient Air Quality Standard

AGENCY: Environmental Protection Agency (EPA).

ACTION: Proposed rule.

SUMMARY: The Environmental Protection Agency (EPA) is proposing to approve a state implementation plan (SIP) revision submitted by the Commonwealth of Pennsylvania (Pennsylvania) for the purpose of demonstrating attainment of the 2008 lead national ambient air quality standard (NAAQS) in the Lower Beaver Valley 2008 lead nonattainment area (Lower Beaver Valley Area or Area). The attainment plan includes the base year emissions inventory, modeling demonstration of attainment with the lead NAAQS, and an analysis of reasonably available control measures (RACM), reasonably available control technology (RACT), and reasonable further progress (RFP). The attainment plan also includes contingency measures for the Lower Beaver Valley Area which include parts of a Consent Order and Agreement (COA) between Horsehead Corporation (Horsehead) and the Pennsylvania Department of Environmental Protection (PADEP). This action is being taken under the Clean Air Act (CAA).

DATES: Written comments must be received on or before February 19, 2016.

ADDRESSES: Submit your comments, identified by Docket ID No. EPA-R03-OAR-2015-0112 at http://www.regulations.gov, or via email to fernandez.cristina@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Gerallyn Duke, (215) 814-2084, or by email at duke.gerallyn@epa.gov.

SUPPLEMENTARY INFORMATION: On January 15, 2015, PADEP submitted a revision to its SIP for the purpose of demonstrating attainment of the 2008 lead NAAQS in the Lower Beaver Valley Area in accordance with requirements in sections 172 and 192 of the CAA. Pennsylvania's lead attainment plan for the Area includes a base year emissions inventory, a modeling demonstration of attainment with the 2008 lead NAAQS, an analysis of RACM, RACT, and RFP, and contingency measures. The lead attainment plan also includes paragraphs 3, 5, and 6 of a COA, dated November 21, 2012, between Horsehead and PADEP that demonstrates how Pennsylvania will achieve and maintain compliance with the 2008 lead NAAQS. EPA has determined that Pennsylvania's attainment plan for the 2008 lead NAAQS for the Lower Beaver Valley Area meets the applicable requirements of the CAA in sections 172 and 192. Thus, EPA is proposing to approve Pennsylvania's attainment plan for the Lower Beaver Valley Area.

EPA's analysis and findings are discussed for each applicable requirement in this rulemaking action. Additional details on the base year inventory and modeling portions of the attainment demonstration are contained in two Technical Support Documents (TSDs) for this proposed action.

I. Background

On November 12, 2008 (73 FR 66964), EPA revised the lead NAAQS, lowering the level from 1.5 micrograms per cubic meter (μg/m³) to 0.15 μg/m³ calculated over a three-month rolling average. EPA established the 2008 lead NAAQS based on significant evidence and numerous health studies demonstrating that serious health effects are associated with exposures to lead emissions.

On November 22, 2010, EPA designated Vanport and Potter Townships in Beaver County, Pennsylvania as the Lower Beaver Valley Area for its nonattainment status with the 2008 lead NAAQS. The design value used for this designation was based on monitoring data from 2007-2009. On November 22, 2011, EPA revised the lead NAAQS designation for the Area based on 2008-2010 monitoring data by adding Center Township to the Area. 76 FR 72097. Under sections 191(a) and 192 of the CAA, Pennsylvania is required to submit a SIP revision with a plan for how the Area will attain the 2008 lead NAAQS, as expeditiously as practicable, but no later than December 31, 2015.

Horsehead owned and operated a permitted zinc production plant in Potter Township, Pennsylvania (the Monaca Smelter or Facility). This Facility was the only industrial source of lead emissions over 0.5 tons per year (tpy) in the Area. On November 21, 2012, PADEP and Horsehead entered into a COA which required Horsehead to permanently discontinue, on or before October 1, 2014, production of zinc metal from its electrothermic furnace line (Furnace Plant), the sintering line (Sinter Plant), and secondary material operations. After these units shut down permanently, the COA provided that Horsehead would be subject to an aggregate potential lead emission rate of 0.1 tpy over each consecutive 12-month rolling period from all of its remaining stationary and fugitive emission sources at the Facility. However, in May 2014, Horsehead permanently ceased operations at additional major sources of emissions at the Facility, including the Larvik Furnaces and Refinery Feed Pot, which were not required under the COA to be shut down. Horsehead's zinc dust sizing circuit, whose emissions are considered insignificant, is allowed to continue to operate periodically, subject to the 0.1 tpy facility-wide limit contained in its federally-enforceable permit as well as in the COA.

II. Summary of SIP Revision

On January 15, 2015, the Commonwealth of Pennsylvania through the PADEP submitted an attainment plan for the Lower Beaver Valley Area as a SIP revision which includes the base year emissions inventory and an attainment demonstration. The attainment demonstration includes: technical analyses that locate, identify, and quantify sources of lead emissions which contributed to violations of the 2008 lead NAAQS; a modeling analysis of an emissions control strategy that demonstrates attainment with the 2008 lead NAAQS by the attainment year 2015; and an analysis of RACT, RACM and RFP, and contingency measures for the Lower Beaver Valley Area. The SIP revision also includes paragraphs 3, 5, and 6 of the COA between Horsehead and PADEP as measures for the attainment plan. EPA's analysis of the submitted attainment plan includes a review of the pollutant addressed, emissions inventory requirements, modeling, RACM, RACT, and RFP requirements, and contingency measures for the Lower Beaver Valley Area.

1. Emissions Inventory Requirements

States are required under section 172(c)(3) of the CAA for nonattainment areas to develop comprehensive, accurate, and current inventories of actual emissions from all sources of the relevant pollutant or pollutants in the relevant nonattainment area. These inventories provide a detailed accounting of all emissions and emission sources by relevant pollutant and its precursors. In the November 12, 2008 lead NAAQS rulemaking, EPA finalized the emissions inventory requirements. These inventory requirements at 40 CFR 51.117(e) require, among other things, that the SIP inventory include all sources that emit 0.5 or more tons of lead emissions per year, that the inventory is subject to public hearing requirements, and that the inventory is included in the SIP.

Section 172(c)(3) of the CAA requires that an identification of emissions from all sources of lead in the nonattainment area be submitted with attainment plans. The base year inventory is typically one of the years in which the area was designated for the standard and includes emissions from stationary point and nonpoint sources. EPA recommends using either 2010 or 2011 as the base year, but does provide flexibility for using other inventory years if states can show another year is more appropriate. Additionally, EPA guidance provides that actual emissions should be used for purposes of the base year inventory.¹

¹ See “Addendum to the 2008 Lead NAAQS Implementation Questions and Answers” dated August 10, 2012, which is included in EPA's SIP Toolkit located at www3.epa.gov/airquality/lead/implement.html.

Pennsylvania's lead attainment plan for Lower Beaver Valley Area evaluates lead emissions in the Area, which includes sources in the area bounded by Vanport, Potter, and Center Townships in Beaver County. There are no precursors for lead which EPA requires to be considered for the lead attainment plan required by section 172 of the CAA.

Pennsylvania developed its base-year inventory using data from 2010, the year the Area was designated nonattainment, for stationary source lead emissions. For the nonpoint sources of lead emissions, PADEP submitted EPA's 2011 National Emissions Inventory (NEI) v2 data as a surrogate for the 2010 inventory, since inventories for nonpoint source emissions are only prepared every three years (2008, 2011) and 2011 was the most recent inventory available.

The only source of lead emissions above 0.5 tpy within the Lower Beaver Valley Area was the Monaca Smelter. The only other stationary source of lead emissions in the Lower Beaver Valley Area was AES Beaver Valley, a 125-MW coal-fired cogeneration plant, though its lead emissions are less than 0.5 tpy. Another source of lead emissions above 0.5 tpy, an electric generating unit (EGU), Bruce Mansfield Power Station (Bruce Mansfield), is located in the adjacent municipality of Shippingsport. The monitor associated with Bruce Mansfield was in attainment with the 2008 lead NAAQS, demonstrating it had no impact on the Lower Beaver Valley Area, so Bruce Mansfield was not included in the Inventory.

Horsehead produced high purity zinc oxide and high grade zinc metal at the Facility. Two sources emitted the majority of lead emissions from the Facility: the Sinter Plant and the Furnace Plant. Roughly ninety-five percent of the Facility's 2010 lead emissions which volatilized during processing were point sources and the remaining five percent escaped as fugitive emissions. Estimates used for calculating 2010 fugitive lead emissions at the Sinter Plant were based on estimates from samples collected during 2007 and 2008. PADEP considered estimates of 2010 fugitive emissions to be conservative because improvements made in fugitive emission control at the Facility, including controls installed at the Sinter Plant since 2008, were not factored into the analysis for 2010 fugitive emissions.

Table 1 identifies the 2010 base year emissions inventory for the Lower Beaver Valley Area. In 2010, lead emissions from point sources or stacks in the Area totaled 5.5961 tons. Lead emissions from nonpoint sources, including mobile sources, also were included in the lead inventory but found by PADEP to be insignificant. There are no other sources of lead emissions in the Area above 0.5 tpy of lead emissions nor smaller sources. According to Pennsylvania's inventory, the Monaca Smelter's emissions comprised almost all of the lead emissions in the Area in 2010.

Table 1—2010 Base Year Lower Beaver Valley Nonattainment Area Emissions Inventory
Source | Lead emissions (tpy)
Monaca Smelter | 5.5531
AES Beaver Valley Plant | 0.0430
Subtotal for Point Sources | 5.5961
Nonpoint Sources | 0.0009
Total | 5.5970

Additional information regarding the emissions inventory for the Area and EPA's analysis of the inventory in accordance with CAA requirements in CAA section 172(c) and 40 CFR 51.117(e) can be found in the TSD for the Base Year Inventory for the Lower Beaver Valley Area which is included in the docket for this proposed action (EPA-R03-OAR-2015-0112) and is available online at www.regulations.gov. EPA finds that the 2010 base year emissions inventory prepared by Pennsylvania and included in the January 15, 2015 SIP submission for Lower Beaver Valley Area meets the requirements of section 172(c)(3) of the CAA and the corresponding regulations at 40 CFR 51.117(e).

2. Attainment Planning Modeling

Section 172 of the CAA and the lead control strategy regulations found at 40 CFR 51.117 require states to employ atmospheric dispersion modeling for the demonstration of attainment of the lead NAAQS as expeditiously as practicable. 40 CFR 51.117(a) requires a demonstration that the attainment plan will attain the NAAQS in the areas in the vicinity of point sources listed in 40 CFR 51.117(a)(1) as well as any other area with lead concentrations in excess of the NAAQS per 40 CFR 1.117(a)(2). The demonstration must meet the requirements of 40 CFR 51.112 and 51.117 as well as appendix W of 40 CFR part 51 and include inventory data, modeling results, and emissions reduction analyses on which the state has based its projected attainment. All these requirements comprise the “attainment demonstration” that is required for lead nonattainment areas.

PADEP performed an air-dispersion modeling analysis to predict the maximum predicted three-month rolling lead concentration using emission inventories representing two facilities, Monaca Smelter and AES Beaver Valley. PADEP used reported lead emissions in 2010 for the base year and projected (future) lead emissions for 2015 because 2015 is the attainment year for the 2008 lead NAAQS. Horsehead's 2010 emissions include point and fugitive emission sources.

Projected emissions were determined based on the November 21, 2012 COA for Horsehead, which contains a plant-wide lead emission limit of 0.1 tpy for the Facility, as well as maximum throughput information and allowable lead emissions from AES Beaver Valley under its current permit. Only point source emissions were calculated for AES Beaver Valley, as only point source emissions were reported from AES. PADEP did not include emissions from Bruce Mansfield in its modeling for the attainment demonstration because prior modeling had demonstrated Bruce Mansfield did not contribute to nonattainment in the Area. Lead emissions from nonpoint sources and mobile source were also examined, but found to be insignificant, so they were not included in the lead modeling demonstration. The modeling was conducted in accordance with 40 CFR part 51, Appendix W—Guideline on Air Quality Models.

The final modeled lead concentration for the future attainment year of 2015 is the maximum projected three-month average lead concentration of 0.0274 μg/m³ plus the background monitored concentration of 0.05 μg/m³ from the Shippingport monitor. This yields a projected lead concentration of approximately 0.08 μg/m³, which is significantly lower than the NAAQS of 0.15 μg/m³.

Modeling for attainment was based primarily on the lead emissions expected in December 31, 2015. Due to monitored violations in 2013 and early 2014, the Area will not attain the NAAQS by 2015 based on ambient air quality over 36 consecutive three-month periods. However, closure of Horsehead operations in 2014 will facilitate attainment of the 2008 lead NAAQS by 2017. More detailed information on the modeling system tools and documents used for the model attainment demonstration for the Area and EPA's analysis of PADEP's attainment modeling conducted for the Area can be found on the EPA Technology Transfer Network Support Center for Regulatory Atmospheric Modeling (SCRAM) (http://www.epa.gov/ttn/scram/), in Pennsylvania's January 15, 2015 submittal, and in the TSD for the modeling portion of the proposed SIP in the docket for this proposed action (EPA-R03-OAR-2015-0112) and available online at www.regulations.gov. EPA finds the modeling was conducted in accordance with requirements for a modeled attainment demonstration in the CAA and in 40 CFR 51.112 and 117 and in appendix W of 40 CFR part 51.

3. RACM, RACT, and RFP

Section 172(c)(1) of the CAA requires nonattainment areas to implement all RACM, including emissions reductions through the adoption of RACT, as expeditiously as practicable. EPA interprets this as requiring consideration of all available controls and to implement all measures in the nonattainment area that are determined to be reasonably available. However, EPA believes it would be unreasonable to require that a plan which demonstrates attainment include all technologically and economically available control measures even though such measures would not expedite attainment. See 58 FR 67751 (December 22, 1993).

In March 2012, EPA issued guidance titled, “Guide to Developing Reasonably Available Control Measures for Controlling Lead Emissions” (RACM Guidance).² Pennsylvania performed a RACM analysis in compliance with the RACM Guidance. The shutdown of the Monaca Smelter Sinter Plant, Furnace Plant, and secondary materials operations on May 19, 2014 are discrete control measures that have already occurred. Pennsylvania has determined that the shutdown of those operations at the Monaca Smelter, along with a plant-wide lead emission limit of 0.1 tpy required in the COA, addresses RACM based on the significant decrease in emissions that will result.

² http://www3.epa.gov/airquality/lead/pdfs/2012ImplementationGuide.pdf.

The 2012 COA also incorporates requirements for control of fugitive emissions from the Monaca Smelter, and PADEP has determined that all known significant sources of lead emissions from the Facility have been eliminated, controlled, or found ineffective or not viable, consistent with EPA's RACM Guidance (which also addresses RACT). Because Horsehead agreed in the COA to discontinue metal production operation at the site by October 14, 2014, PADEP considered further investment in additional control strategies to not be reasonable or cost effective. Thus, PADEP has determined that no additional control measures such as RACT are required at the Monaca Smelter. EPA has reviewed PADEP's determinations and analysis and finds it reasonable for RACM and RACT at the Monaca Smelter.

EPA set a threshold of 0.5 tpy for lead sources to undergo a RACT analysis. 73 FR 67038. Because the lead emissions from the AES Beaver Valley facility are well below 0.5 tpy, PADEP concluded no RACT review is required for that facility and EPA finds PADEP's conclusion reasonable for AES Beaver Valley.

Section 172(c)(2) of the CAA also requires areas designated as nonattainment for criteria pollutants to include a demonstration of RFP for meeting air quality standards in attainment plans. Section 171(1) of the CAA defines RFP as annual incremental reductions in emissions of the relevant air pollutants as required by Part D of Title I of the CAA, or emission reductions that may reasonably be required by EPA to ensure attainment of the applicable NAAQS by the applicable date.³

³ Incremental reductions in lead emissions are not specified in Part D of Title I of the CAA.

As stated in the final lead NAAQS rule (73 FR 67038), RFP is satisfied by the strict adherence to a compliance schedule which is expected to periodically yield significant emission reductions. Pennsylvania's control strategy in the Lower Beaver Valley Area is not staggered or phased. Nonattainment of the 2008 lead NAAQS is primarily attributable to a single source, the Monaca Smelter, whose major operations shut down in May 2014. Ambient air quality concentrations dropped at or below attainment levels immediately after Horsehead shut down these operations at the Facility, thus fulfilling RFP requirements for the Lower Beaver Valley Area. All of the Area's ambient air quality monitors reported lead concentrations below the 2008 lead NAAQS for the three-month rolling average for May through July, 2014. The monitor located in Center Township and associated with the Monaca Smelter showed a 2013 design value of 0.25 μg/m³, which exceeds the lead NAAQS limit of 0.15 μg/m³.⁴ However, the maximum three-month rolling average ambient lead concentration for the five-month period since the closure of the Monaca Smelter was 0.02 μg/m³. See Table 3 to Pennsylvania's January 15, 2015 SIP submittal.

⁴ The monitoring data for 2010-2013 is included in appendix A of Pennsylvania's January 15, 2015 SIP submittal and uses data queried from the Air Quality System (AQS) Data Mart Database at https://aqs.epa.gov/api.

With continued implementation of RACM, i.e., continued shutdown of the primary lead emitting units at the Monaca Smelter and the COA emissions limit of 0.1 tpy for the Facility, lead emissions at the Facility are expected to stay well below 0.1 tpy and ambient lead concentrations in the Area are expected to continue to remain well below the NAAQS limit. Thus, EPA finds that Pennsylvania has demonstrated that RFP has been addressed.

4. Contingency Measures

In accordance with section 172(c)(9) of the CAA, contingency measures are required as additional measures to be implemented in the event that an area fails to make RFP or fails to attain a standard by its attainment date. These measures must be fully adopted rules or control measures that can be implemented quickly and without additional EPA or state action and should contain trigger mechanisms and an implementation schedule.⁵ In addition, these measures should be ones that are not already included in the SIP control strategy for attaining the standard. See 73 FR 67038 (November 12, 2008).

⁵ See EPA document titled “Addendum to the 2008 Lead NAAQS Implementation Questions and Answers” dated August 10, 2012, included in EPA's SIP Toolkit at http://www3.epa.gov/airquality/lead/pdfs/20120810qanda.pdf.

The contingency measures in Pennsylvania's SIP submittal are primarily focused on control of fugitive dust because there is no longer an operating source with emissions above 0.5 tpy of lead in the Area. The SIP submittal provides for contingency measures in the COA with Horsehead which would apply should Horsehead continue operations at units not required to be shut down under the COA, and should PADEP determine that these operations cause or significantly contribute to ongoing lead NAAQS exceedances. These measures include source testing and reporting, wetting down roads in the facility, installing and operating a vehicle washing facility near material storage and handling areas, and retrofitting baghouses, or alternative control measures approved by PADEP.⁶

⁶ Horsehead's COA does not require closure or shut down of the Larvik Furnaces, the Refinery Feed Pot, and zinc dust sizing circuit. Thus, the COA includes contingency measures applicable to the Facility. The COA is included in the PADEP SIP submittal. Upon final approval of the SIP, the COA's terms will be federally enforceable as part of the Pennsylvania SIP. The COA is available in the docket for this rulemaking which is available online at www.regulations.gov.

The SIP submittal also states that should PADEP determine that specific activities at the Monaca Smelter or at other sources in the Area are likely to have caused an exceedance of the lead NAAQS, or if PADEP documents a violation of Pennsylvania's fugitive dust regulations at 25 PA Code Section 123.1 or 123.2, additional control measures would be triggered. Specifically, PADEP can enforce those regulations and require the party whose actions likely have caused the exceedance or whose actions resulted in a violation to mitigate the impact on the 2008 lead NAAQS by implementing additional control measures. Such control measures may include paving, vegetating, watering, or chemically stabilizing traffic paths; periodic cleaning of paved roads; wet suppression at bulldozing sites and soil piles; vehicle washing at property exits; and covering soil-bearing trucks.

The January 15, 2015 SIP submittal provides the following process for triggering the above contingency measures. Any single sample result exceeding 0.15μg/m³ at a monitor in the Lower Beaver Valley Area would trigger investigation by PADEP to determine what specific activities have caused the increased concentration level (because the only significant stationary source of lead emissions is no longer in operation). Should PADEP determine, as the result of observations by PADEP or receipt of a complaint, that specific activities are likely to have caused an exceedance or violation, PADEP will notify the party that an action appears to be adversely affecting the NAAQS or violating Pennsylvania regulations. Corrective action in the form of contingency measures would follow, involving enforcement as appropriate.

Pennsylvania's SIP submission further provides that persistent lead exceedances at any monitor would trigger increased sampling frequency at the monitor where such an exceedance occurred.⁷ Four or more sample results within any three-month rolling period reported to exceed 0.15μg/m³ would trigger expanded ambient air monitoring and investigation as needed to identify the potential source(s) and address the source of the exceedance.

⁷ Sampling would increase from once every six days to every three days if results from two samples during any three-month rolling period exceed 0.15 μg/m³. Sampling frequency would further increase to daily if results from three samples during any three-month period exceed 0.15 μg/m³.

Section 172(c)(5) of the CAA requires permits for the construction and operation of new and modified major stationary sources anywhere in a nonattainment area. The Pennsylvania SIP includes provisions consistent with the federal requirements, set forth at 40 CFR 51.165, for nonattainment new source review (NSR).

PADEP's SIP submittal states that NSR permitting requirements in its SIP ensure that no new or modified sources will cause or contribute to a NAAQS violation by requiring, as part of the NSR permit, a demonstration that such a violation will not occur. See 25 Pa. Code § 127.81 and 127.201-127.217. If Horsehead or any entity proposes to restart or modify operations or construct and operate other activities at the Facility that would result in increased lead emissions, such changes would trigger NSR permitting requirements which include measures to minimize emissions and prevent NAAQS violations.

In summary, EPA finds these contingency measure triggers and actions will help ensure compliance with the 2008 lead NAAQS and meet the requirements of section 172(c)(9) of the CAA to ensure continued attainment of the NAAQS if any events occur interfering with attainment. EPA finds PADEP's SIP submittal contains adequate contingency measures if the Area fails to attain the NAAQS or fails to achieve RFP because the only significant stationary source of lead emissions is no longer in operation, Pennsylvania's existing rules related to control of fugitive dusts and permitting are sufficient to minimize emissions and prevent NAAQS violations, and additional measures are not reasonably available to serve as contingency measures.

III. Proposed Action

EPA finds the January 15, 2015 SIP submittal attainment plan for the Lower Beaver Valley Area meets the applicable requirements of the CAA for attainment plans in section 172 and 192 of the CAA and in implementing regulations including 40 CFR 51.112 and 51.117. EPA is proposing to approve the Pennsylvania SIP revision attainment plan for the Lower Beaver Valley Area for the 2008 lead NAAQS including the attainment demonstration, base year emissions inventory, RACM/RACT and RFP analyses, and contingency measures.

EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule to approve Pennsylvania's SIP revision containing the attainment plan for the 2008 lead NAAQS in the Lower Beaver Valley Area, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Lead.

Authority: 42 U.S.C. 7401 et seq.

Dated: December 30, 2015.
Shawn M. Garvin,
Regional Administrator, Region III.

[FR Doc. 2016-00871 Filed 1-19-16; 8:45 am]

BILLING CODE 6560-50-P